DEPARTMENT OF THE TREASURY

Submission for OMB Review; Comment Request

July 16, 2010.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW. Washington, DC 20220.

DATES: Written comments should be received on or before August 23, 2010 to be assured of consideration.

Financial Management Service (FMS)

OMB Number: 1510-0012.

Type of Review: Revision of a currently approved collection.

Title: Annual Financial Statements of Surety Companies—Schedule FA.

Form: 6314.

Abstract: Surety and Insurance Companies report information used to compute the amount of unauthorized reinsurance to determine Treasury Certified Companies' underwriting limitations which are published in Treasury Circular 570.

Respondents: Private Sector: Businesses or other for-profits.

Estimated Total Burden Hours: 14,628 hours.

Bureau Clearance Officer: Wesley Powe, Financial Management Service, 3700 East West Highway, Room 135, Hyattsville, MD 20782; (202) 874-7662.

OMB Reviewer: Shagufta Ahmed, Office of Management and Budget, New Executive Office Building, Room 10235, Washington, DC 20503; (202) 395-7873.

Celina Elphage,
Treasury PRA Clearance Officer.

[FR Doc. 2010-17936 Filed 7-21-10; 8:45 am]

BILLING CODE 4830-01-P